DEPARTMENT OF DEFENSE

Office of the Secretary

TRICARE; Fiscal Year 2016 Continued Health Care Benefit Program Premium Update

AGENCY: Office of the Secretary, Department of Defense.

ACTION: Notice of Continued Health Care Benefit Program Premiums for Fiscal Year 2016.

SUMMARY: This notice provides the Continued Health Care Benefit Program (CHCBP) premiums for Fiscal Year 2016.

DATES: The Fiscal Year 2016 rates contained in this notice are effective for services on or after October 1, 2015.

ADDRESSES: Defense Health Agency, TRICARE Health Plan, 7700 Arlington Boulevard, Suite 5101, Falls Church, Virginia 22042-5101.

FOR FURTHER INFORMATION CONTACT: Mark A. Ellis, telephone (703) 681-0039.

SUPPLEMENTARY INFORMATION: The final rule published in the Federal Register on September 30, 1994 (59 FR 49818) sets forth rules to implement the CHCBP required by 10 U.S.C. 1078a. Included in this final rule were provisions for updating the CHCBP premiums for each federal fiscal year. As stated in the final rule, the premiums are based on Federal Employee Health Benefit Program employee and agency contributions required for a comparable health benefits plan, plus an administrative fee. Premiums may be revised annually and shall be published annually.

The Defense Health Agency has updated the quarterly premiums for Fiscal Year 2016 as shown below:

Quarterly CHCBP Premiums for Fiscal Year 2016

Individual $1,300

Family $2,925

The above premiums are effective for services rendered on or after October 1, 2015.

Dated: August 21, 2015.
Aaron Siegel,
Alternate OSD Federal Register Liaison Officer, Department of Defense.

[FR Doc. 2015-21116 Filed 8-25-15; 8:45 am]

BILLING CODE 5001-06-P